DEPARTMENT OF HEALTH AND HUMAN SERVICES

Centers for Disease Control and Prevention

Board of Scientific Counselors, Office of Infectious Diseases (BSC, OID)

AGENCY: Centers for Disease Control and Prevention (CDC), Department of Health and Human Services (HHS).

ACTION: Notice of meeting.

SUMMARY: In accordance with the Federal Advisory Committee Act, the CDC announces the following meeting for the Board of Scientific Counselors, Office of Infectious Diseases (BSC, OID). This meeting is open to the public, limited only by the space available; the meeting room will accommodate up to 100 people. The public is also welcome to listen to the meeting by telephone, limited only by the number of ports available (100); the toll-free dial-in number is 1-877-951-7311, with a pass code of 5421098.

DATES: The meeting will be held on December 4, 2019, 12:30 p.m. to 5:30 p.m., EST, and December 5, 2019, 8:30 a.m. to 3:30 p.m., EST.

ADDRESSES: CDC, Global Communications Center, 1600 Clifton Road NE, Building 19, Auditorium B3, Atlanta, Georgia 30329-4027; also 1-877-951-7311, with a pass code of 5421098.

FOR FURTHER INFORMATION CONTACT: Sarah Wiley, MPH, Designated Federal Officer, CDC, 1600 Clifton Road NE, Mailstop H24-12, Atlanta, Georgia 30329-4027, Telephone (404) 639-4840; SWiley@cdc.gov.

SUPPLEMENTARY INFORMATION:

Purpose: The BSC, OID, provides advice and guidance to the Secretary, Department of Health and Human Services; the Director and the Deputy Director for Infectious Diseases (DDID), CDC; and the Directors of the National Center for Emerging and Zoonotic Infectious Diseases, the National Center for HIV/AIDS, Viral Hepatitis, STD, and TB Prevention, and the National Center for Immunization and Respiratory Diseases, CDC, in the following areas: Strategies, goals, and priorities for programs; research within the national centers; and overall strategic direction and focus of DDID and the national centers.

Matters To Be Considered: The agenda will include updates on CDC activities from CDC's Deputy Director for Infectious Diseases along with focused discussions on recent outbreaks and affected populations and on vector-borne diseases. Reports back from four workgroups will also be given: (1) The Board's Acute Flaccid Myelitis (AFM) Task Force; (2) the Board's Food Safety Modernization Act Surveillance Working Group; (3) the Board's Infectious Diseases Laboratory Working Group; and (4) the Vector-borne Diseases Workgroup of the BSC, OID, and the Board of Scientific Counselors, National Center for Environmental Health/Agency for Toxic Substances and Disease Registry. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2019-22980 Filed 10-21-19; 8:45 am]

BILLING CODE 4163-18-P